DEPARTMENT OF THE INTERIOR

Bureau of Land Management

[WY-060-03-1610-DO]

Notice of Intent To Revise the Platte River Resource Management Plan and Prepare an Associated Environmental Impact Statement

AGENCY: Bureau of Land Management, Interior.

ACTION: Notice of Intent to revise the Platte River Resource Management Plan (RMP), to be titled and referred to in the future as the Casper RMP, and prepare an associated Environmental Impact Statement (EIS); solicitation of public comments on resource issues and preliminary planning criteria; and call for coal and other resource information for the Casper RMP planning area, Wyoming.

SUMMARY: This document (1) provides notice that the Bureau of Land Management (BLM) intends to prepare a revised RMP with an associated EIS, (2) solicits public comments regarding resource issues and preliminary planning criteria, and, (3) solicits resource information for coal and other resources for the Casper planning area. The planning area, encompassing approximately 1.4 million acres of BLM-administered public land surface and 4.7 million acres of BLM-administered Federal mineral estate, is located in Converse, Goshen, Natrona, and Platte counties, Wyoming. The Platte River RMP (1985) will continue to guide management actions and decisions for the planning area until the Casper RMP is completed and approved.

Preparation of the Casper RMP and associated EIS will fulfill the obligations set forth by the Federal Land Policy and Management Act (FLPMA), the National Environmental Policy Act (NEPA), and Federal regulations.

DATES: This notice initiates the public scoping process. The BLM can best utilize public comments and resource information submissions submitted within 60 days of publication of this notice.

ADDRESSES: Please send written comments and resource information submissions via mail to the BLM, Casper Field Office, 2987 Prospector Drive, Casper, Wyoming 82604; or electronically to crmp_wymail@blm.gov. Members of the public may examine documents pertinent to this proposal in the Casper Field Office. To be considered, all comments must include legible full name and address on the envelope, letter, postcard, facsimile, or e-mail. Comments, including names and street addresses of respondents, will be available for public review at the Casper Field Office during regular business hours (7:45 a.m. to 4:30 p.m.), Monday through Friday, except holidays, and may be published as part of the EIS process. Individual respondents may request confidentiality. If you wish to withhold your name or street address from public review or from disclosure under the Freedom of Information Act, please state this prominently at the beginning of your written comment. The BLM will honor such requests to the extent allowed by law. All submissions from organizations and businesses, and from individuals identifying themselves as representatives or officials of organizations or businesses, will be available for public inspection in their entirety.

FOR FURTHER INFORMATION: For further information or to have your name added to the Casper RMP mailing list, contact Linda Slone at the above address or by telephone at (307) 261-7600, or electronically to rmp_wymail@blm.gov.

SUPPLEMENTARY INFORMATION: The BLM will work collaboratively with interested parties to identify the management decisions that are best suited to local, regional, and national interests. The public scoping process will help identify planning issues, provide for public comment on the proposed planning criteria, and provide an opportunity to comment on documents published throughout the RMP revision process.

The Cedar Ridge-Badwater Creek area, located along the southern border of the Big Horn Mountains in Natrona County, has been evaluated as a traditional cultural property (TCP). The TCP is a sensitive cultural resource of high significance eligible for inclusion in the National Register of Historic Places. During the Casper RMP planning process, the Cedar Ridge-Badwater Creek area will be evaluated as a Special Management Area (SMA.)

1. Preliminary Issues

Emerging resource issues and changing laws necessitate preparation of the Casper RMP. Preliminary issues and management concerns have been identified by BLM personnel, other agencies, and in meetings with individuals and user groups. These issues represent the BLM's knowledge to date on the existing issues and concerns with current management. The major issue themes that may be addressed in the planning effort include:

A. Energy and mineral resource exploration and development;

B. Access to and transportation on BLM lands;

C. Recreation and off-highway vehicle (OHV) management;

D. Wildlife habitat and management of crucial habitat and migration corridors;

E. Management and the cumulative effect of land uses and human activities on threatened, endangered, candidate, and sensitive species and their habitats;

F. Vegetation, including impacts of invasive non-native species;

G. Management of cultural and paleontological resources, including national historic trails;

H. Landownership adjustments;

I. Fire management;

J. Livestock grazing;

K. Visual resource management; and

L. Air and water quality.

These preliminary issues are not final and may be added to and refined throughout the public participation process. The BLM is requesting the help of the public in identifying additional issues to be addressed in the planning effort. Decisions in the RMP will adhere to the goals and objectives of the President's National Energy Policy.

2. Categorization of Issues

After gathering public comments on what issues the Casper RMP should address, the BLM will place suggested issues in one of three categories: issues to be resolved in the RMP, issues resolved through policy or administrative action, and issues beyond the scope of the RMP.

Rationale will be provided in the EIS for the Casper RMP for issues to be resolved through policy or administrative action and issues beyond the scope of the EIS. In addition to major issues, a number of management concerns will be addressed in the RMP. The public is encouraged to help identify these concerns throughout the public scoping process.

3. Preliminary Planning Criteria

The BLM identified the following preliminary planning criteria to guide resolution of the issues considered in the planning effort. The BLM may revise these criteria during the planning process or in response to public comment.

A. The revised RMP will recognize valid existing rights.

B. The revised RMP will comply with all applicable laws, regulations, policy, and guidance.

C. Planning decisions will cover BLM-administered public lands, including split-estate lands where the subsurface minerals are severed from the surface right, and the BLM has legal jurisdiction over one or the other.

D. The RMP planning effort will be collaborative and multi-jurisdictional in nature. The BLM will strive to ensure that its management decisions are complimentary to other planning jurisdictions and adjoining properties, within the boundaries described by law and regulation.

E. The environmental analysis will consider a reasonable range of alternatives that focus on the relative values of resources and respond to the issues. Management prescriptions will reflect the principles of multiple use and sustained yield.

F. The BLM will use current scientific information, research, new technologies, and the results of resource assessments, monitoring, and coordination to determine appropriate local and regional management strategies that will enhance or restore impaired ecosystems.

G. The Wyoming Standards for Healthy Rangelands will apply to all activities and uses.

H. The BLM will address socioeconomic conditions and environmental justice.

I. The BLM will provide for public safety and welfare relative to fire, hazardous materials, and abandoned mine lands.

J. Visual Resource Management (VRM) class designations will be analyzed and modified to reflect present conditions and future needs.

K. The BLM will consider present and potential uses of the public lands through the development of reasonably foreseeable future development and activity scenarios based on historical, existing, and projected levels of use.

L. Planning decisions will include the preservation, conservation, and enhancement of cultural, historical, paleontological, and natural components of public land resources, while considering energy development and other surface-disturbing activities.

M. The BLM will coordinate with Native American tribes to identify sites, areas, and objects important to their cultural and religious heritage.

N. Planning decisions will comply with the Endangered Species Act and the BLM interagency agreements with the U.S. Fish & Wildlife Service regarding consultation.

O. Areas potentially suitable for ACECs or other special management designations will be identified, and where appropriate, brought forward for analysis in the EIS.

P. Waterway segments have been classified and determinations of eligibility and suitability made in accordance with Section 5(d) of the Wild and Scenic Rivers Act. Appropriate management prescriptions for maintaining or enhancing the outstanding remarkable values and classifications of waterway segments meeting suitability factors will be part of the RMP revision.

Q. OHV management decisions in the revised RMP will be consistent with the BLM's National OHV Strategy.

R. Decisions in the revised RMP will adhere to the goals and objectives of the National Energy Policy as well as the Energy Policy and Conservation Act.

S. Known areas in the Casper planning area with coal development potential are located in northeastern Converse County. Coal screening determinations were made on these areas during planning efforts for the Buffalo RMP and the Thunder Basin National Grasslands Land and Resource Management Plan. No additional coal screening determinations or coal planning decisions are planned for the Casper RMP, unless public submissions of coal resource information or surface resource issues indicate a need to update these determinations.

4. Call for Coal and Other Resource Information

Parties interested in leasing and development of Federal coal in the planning area should provide coal resource data for their area(s) of interest. Specifically, information is requested on the location, quality, and quantity of Federal coal with development potential, and on surface resource values related to the 20 coal unsuitability criteria described in 43 CFR part 3461. This information will be used for any necessary updating of coal screening determination (43 CFR 3420.1-4) in the area and in the environmental analysis for the Casper RMP.

In addition to coal resource data, the BLM seeks resource information and data for other public land values (e.g., air quality, cultural and historic resources, fire/fuels, fisheries, forestry, lands and realty, non-energy minerals and geology, oil and gas (including coalbed methane), paleontology, rangeland management, recreation, soil, water, and wildlife) in the planning area. The purpose of this request is to assure that the planning effort has sufficient information and data to consider a reasonable range of resource uses, management options, and alternatives for the public lands.

Proprietary data marked as confidential may be submitted in response to this call for coal and other resource information. Please submit all proprietary information submissions to the Casper Field Manager at the address listed above. The BLM will treat submissions marked as “Confidential” in accordance with the laws and regulations governing the confidentiality of such information.

5. Public Participation

The BLM will announce public meetings and comment periods through one or more of the following: local news media, newsletters, and the Casper Field Office Web site, http://www.wy.blm.gov/cfo/info.htm, at least 15 days prior to the event. Meetings will tentatively be held in the fall of 2003 in Casper, Douglas, Torrington, and Wheatland, Wyoming. The minutes and list of attendees for each meeting will be available to the public and open for 30 days so that attendees may clarify the views they expressed. The BLM will also provide additional opportunities for public participation throughout the RMP revision process.

Dated: May 2, 2003.
Robert A. Bennett,
State Director.

[FR Doc. 03-15602 Filed 6-19-03; 8:45 am]

BILLING CODE 4310-22-P